DEPARTMENT OF HOMELAND SECURITY

Federal Emergency Management Agency

[Docket ID FEMA-2019-0002; Internal Agency Docket No. FEMA-B-1975]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 9, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1975, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Black Hawk County, Iowa and Incorporated Areas
Project: 17-07-0295S Preliminary Date: January 10, 2019
City of Cedar Falls | City Hall Department of Finance and Business Operations, 220 Clay Street, Cedar Falls, IA 50613.
City of Dunkerton | City Hall, 200 Tower Street, Dunkerton, IA 50626.
City of Elk Run Heights | City Hall, 5042 Lafayette Road, Elk Run Heights, IA 50707.
City of Gilbertville | City Hall, 1321 5th Street, Gilbertville, IA 50634.
City of Hudson | City Hall, 525 Jefferson Street, Hudson, IA 50643.
City of La Porte City | City Hall, 202 Main Street, La Porte City, IA 50651.
City of Raymond | City Hall, 101 1st Street, Raymond, IA 50667.
City of Waterloo | City Hall, 715 Mulberry Street, Waterloo, IA 50703.
Unincorporated Areas of Black Hawk County | Black Hawk County Courthouse, 316 East 5th Street, Waterloo, IA 50703.
Dickinson County, Kansas and Incorporated Areas
Project: 17-07-0009S Preliminary Date: August 14, 2019
City of Abilene | Office of the City Inspector, 419 North Broadway, Abilene, KS 67410.
City of Chapman | City Hall, 466 North Marshall Street, Chapman, KS 67431.
City of Enterprise | City Hall, 206 South Factory Street, Enterprise, KS 67441.
City of Herington | City Office, 17 North Broadway, Herington, KS 67449.
City of Hope | City Office, 113 North Main Street, Hope, KS 67451.
City of Manchester | City Office, 610 Lina Avenue, Manchester, KS 67410.
City of Solomon | City Office, 116 West Main Street, Solomon, KS 67480.
Unincorporated Areas of Dickinson County | Dickinson County Courthouse, 109 East 1st Street, Suite 202, Abilene, KS 67410.
Emmet County, Michigan (All Jurisdictions)
Project: 14-05-3357S Preliminary Date: June 4, 2019
City of Harbor Springs | City Hall, 160 Zoll Street, Harbor Springs, MI 49740.
City of Petoskey | City Hall, 101 East Lake Street, Petoskey, MI 49770.
Little Traverse Bay Bands of Odawa Indians | Little Traverse Bay Bands of Odawa Indians, 7500 Odawa Circle, Harbor Springs, MI 49740.
Township of Bear Creek | Bear Creek Township Hall, 373 North Division Road, Petoskey, MI 49770.
Township of Bliss | Township of Bliss Town Hall, 41 West Lakeview Road, Levering, MI 49755.
Township of Cross Village | Cross Village Township Hall, 5954 Wadsworth Street, Harbor Springs, MI 49740.
Township of Friendship | Clerk's Office, 88774 Kawegoma Road, Harbor Springs, MI 49740.
Township of Littlefield | Littlefield Township Hall, 7631 Burr Avenue, Alanson, MI 49706.
Township of Little Traverse | Little Traverse Township Hall, 8288 Pleasant View Road, Harbor Springs, MI 49740.
Township of Readmond | Readmond Township Hall, 6034 Wormwood Lane, Harbor Springs, MI 49740.
Township of Resort | Resort Township Hall, 2232 Resort Pike Road, Petoskey, MI 49770.
Township of Wawatam | Wawatam Township Hall, 119 West Etherington Street, Mackinaw City, MI 49701.
Township of West Traverse | West Traverse Township Hall, 8001 M-119, Harbor Springs, MI 49740.
Village of Mackinaw City | Village Hall, 102 South Huron Avenue, Mackinaw City, MI 49701.
Niagara County, New York (All Jurisdictions)
Project: 17-02-0294S Preliminary Date: April 5, 2019
City of North Tonawanda | City Hall, 216 Payne Avenue, North Tonawanda, NY 14120.

[FR Doc. 2019-26422 Filed 12-6-19; 8:45 am]

BILLING CODE 9110-12-P